DEPARTMENT OF HEALTH AND HUMAN SERVICES

Health Resources and Services Administration

Agency Information Collection Activities: Submission to OMB for Review and Approval; Public Comment Request; Rural Health Network Development Planning Program

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than April 6, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 594-4394.

SUPPLEMENTARY INFORMATION:

Information Collection Request Title: The Rural Health Network Development Planning Performance Improvement and Measurement System Database OMB No. 0915-0384—Revision.

Abstract: The purpose of the Rural Health Network Development Planning Program (Network Planning Program) is to promote the planning and development of integrated health care networks to address the following legislative aims: (i) achieve efficiencies; (ii) expand access to, coordinate, and improve the quality of basic health care services and associated health outcomes; and (iii) strengthen the rural health care system. This program supports 1 year of planning and brings together key parts of a rural health care delivery system, particularly those entities that may not have collaborated in the past, to establish and/or improve local capacity in order to strengthen rural community health interventions and enhance care coordination. HRSA collects information from the Network Planning Program award recipients using approved performance measures. HRSA seeks to revise its approved information collection by increasing the total estimated annual burden hours, due to an increase in the number of program award recipients.

A 60-day notice was published in the Federal Register on December 9, 2022, vol. 87, No. 236; pp. 75638-39. There were no public comments.

Need and Proposed Use of the Information: Performance measures for the Network Planning Program serve the purpose of quantifying awardee-level data that conveys the successes and challenges associated with the grant award. These measures and aggregate data substantiate and inform the focus and objectives of the grant program. The approved measures encompass the following principal topic areas: network infrastructure, network collaboration, sustainability, and network assessment. The burden is increasing by 2 hours from the previously approved collection due to an increase in the number of award recipients from 21 to 23.

Likely Respondents: The respondents for these measures are Rural Health Network Development Planning Program award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Rural Health Network Development Planning Program Performance Improvement Measurement System | 23 | 1 | 23 | 1 | 23
Total | 23 |  | 23 |  | 23

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-04585 Filed 3-6-23; 8:45 am]

BILLING CODE 4165-15-P